Title 3—

The President

Proclamation 10572 of May 5, 2023

National Teacher Appreciation Day and National Teacher Appreciation Week, 2023

By the President of the United States of America

A Proclamation

In schools across America, teachers are arriving early to set up classrooms, spending long hours educating students, and staying late to prepare tomorrow's lesson plans. Their devotion to our children embodies the best of America—ready to serve and eager to see others thrive. Today and during this week, we celebrate our Nation's remarkable teachers and early childhood educators, and we recommit to having their backs, just as they have ours.

In the words of the First Lady, a lifelong educator, teaching is a calling—a way to live out the belief that we can shape our corner of the world, one student at a time. But shaping that world demands a lot. Teaching happens inside and outside the classroom. It often includes spending extra time coaching teams, supporting student clubs, and helping kids catch up when they have fallen behind. It means giving young children the foundational skills for success during a critical period of their development. It also demands being endlessly adaptable, like at the height of the COVID-19 pandemic, when many classes went online and teachers had to find new ways to keep students engaged and learning. When Jill and I recently hosted the 2023 National Teacher of the Year ceremony at the White House, we were deeply inspired again by the dedication, creativity, and loving strength of our Nation's educators.

We owe our teachers and early childhood educators so much. We need to pay them better, improve their working conditions, and focus on recruitment and retention. My Administration's American Rescue Plan supported early childhood programs and helped K-12 schools across the country re-open, hire more educators, boost salaries, increase mental health services, and expand afterschool and summer programs. Thanks to our investments, public schools across the country have added more than 500,000 educators and staff. Compared with before the pandemic, the number of school social workers nationwide is up 48 percent, the number of school nurses is up 42 percent, and the number of school counselors is up 10 percent.

My Fiscal Year 2024 Budget calls for $600 billion to provide access to high-quality child care and preschool programs so all families can afford to enroll their children and so early childhood educators have higher wages. It would also increase funding for Title I schools—which serve some of the most disadvantaged communities in our Nation—to give teachers a raise and expand their ranks. And it calls on the Congress to increase salaries for Head Start staff and invest $300 million to help address shortages of special education teachers across America.

My Administration has worked to fix the Public Service Loan Forgiveness program—a key step in meeting our commitment to those who have chosen this vital profession and other areas of public service. To date, we have helped over 450,000 public service employees, including teachers, get nearly $31 billion in student loan forgiveness. In many cases, educators have had their entire student debt wiped out.

Supporting our teachers also demands that we keep them and their students safe at school. Last year, I signed the most significant gun safety law in nearly three decades, which includes enhanced background checks for individuals under the age of 21 and funding for States to enact red flag laws that can help keep guns from people who are a danger to themselves and others. This law also authorized more than $1 billion to improve student mental health, enabling schools to hire and train thousands of new mental health professionals. Schools should be places to learn, make friends, and feel the support of a real community. No teacher or student should have to wonder whether the goodbye hug they give their loved ones before going to school one day will be their last.

The greatness of a nation is measured in part by how it prepares the next generation to succeed. On National Teacher Appreciation Day and during National Teacher Appreciation Week, we honor the remarkable educators entrusted with this responsibility. As I have traveled the country and met so many of our teachers—and seen their passion and dedication—I have never been more confident in the future of America.

NOW, THEREFORE, I, JOSEPH R. BIDEN JR., President of the United States of America, by virtue of the authority vested in me by the Constitution and the laws of the United States, do hereby proclaim May 9, 2023, as National Teacher Appreciation Day and May 7 through May 13, 2023, as National Teacher Appreciation Week. I call upon all Americans to recognize the hard work and dedication of our Nation's teachers and to observe this day and this week by supporting teachers through appropriate activities, events, and programs.

IN WITNESS WHEREOF, I have hereunto set my hand this fifth day of May, in the year of our Lord two thousand twenty-three, and of the Independence of the United States of America the two hundred and forty-seventh.

[FR Doc. 2023-10086

Filed 5-9-23; 8:45 am]

Billing code 3395-F3-P